DEPARTMENT OF ENERGY

Federal Energy Regulatory Commission

[Project No. 405-111]

Exelon Generation Company, LLC; Notice of Availability of Environmental Assessment

In accordance with the National Environmental Policy Act of 1969 and the Federal Energy Regulatory Commission's (Commission) regulations, 18 CFR part 380 (Order No. 486, 52 FR 47897), the Office of Energy Projects has reviewed an application submitted by Exelon Generation Company, LLC (licensee) to allow Old Dominion Electric Cooperative (permittee) the use of the Conowingo Project lands and waters for the withdrawal and discharge of water. The project is located on the Susquehanna River near Lancaster, Pennsylvania, in Hartford and Cecil Counties, Maryland and in York and Lancaster Counties, Pennsylvania.

An environmental assessment (EA) has been prepared as part of staff's review of the proposal. In the application, the licensee proposes to allow ODEC to withdraw up to 8.7 million gallons per day (mgd) and to discharge return water not to exceed 0.8 mgd, resulting in a total maximum consumptive use of 7.9 mgd of water in order to support a 1,000 megawatt electric power generating plant that would be known as the Wildcat Point Generation Facility, located in Cecil County, Maryland. This EA contains Commission staff's analysis of the probable environmental impacts of the proposed withdraw and discharge of water and concludes that approval of the proposal would not constitute a major federal action significantly affecting the quality of the human environment.

The EA is available for electronic review and reproduction at the Commission's Public Reference Room, located at 888 First Street NE., Room 2A, Washington, DC 20426. The EA may also be viewed on the Commission's Web site at http://www.ferc.gov using the “eLibrary” link. Enter the docket number (P-405) in the docket number field to access the document. For assistance, contact FERC Online Support at FERCOnlineSupport@ferc.gov or toll-free at (866) 208-3372 or for TTY, (202) 502-8659.

Any comments on the EA should be filed by January 28, 2015 and should be addressed to the Secretary, Federal Energy Regulatory Commission, 888 First Street NE., Room 1-A, Washington, DC 20426. Please reference the project name and project number (P-405-111) on all comments. Comments may be filed electronically via the Internet in lieu of paper. The Commission strongly encourages electronic filings. See 18 CFR 385.2001(a)(1)(iii) and the instructions on the Commission's Web site under the “eFiling” link. For further information, contact Carlisa Linton at (202) 502-8416.

Dated: December 29, 2014.
Kimberly D. Bose,
Secretary.

[FR Doc. 2014-30847 Filed 1-2-15; 8:45 am]

BILLING CODE 6717-01-P